INTERNATIONAL TRADE COMMISSION

[Investigation No. 731-TA-1529 (Final)]

Seamless Carbon and Alloy Steel Standard, Line, and Pressure Pipe From Czechia; Determination

On the basis of the record ¹ developed in the subject investigation, the United States International Trade Commission (“Commission”) determines, pursuant to the Tariff Act of 1930 (“the Act”), that an industry in the United States is materially injured by reason of imports of seamless carbon and alloy steel standard, line, and pressure pipe from Czechia, provided for in subheadings 7304.19.10, 7304.19.50, 7304.31.60, 7304.39.00, 7304.51.50, 7304.59.60, and 7304.59.80 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 86 FR 12909 (March 5, 2021).

Background

The Commission instituted this investigation effective July 8, 2020, following receipt of petitions filed with the Commission and Commerce by Vallourec Star, LP, Houston, Texas. The Commission scheduled the final phase of the investigation following notification of a preliminary determination by Commerce that imports of seamless carbon and alloy steel standard, line, and pressure pipe from Czechia were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of December 31, 2021 (85 FR 86946). In light of the restrictions on access to the Commission building due to the COVID-19 pandemic, the Commission conducted its hearing through written testimony and video conference on March 4, 2021. All persons who requested the opportunity were permitted to participate.

The Commission made this determination pursuant to § 735(b) of the Act (19 U.S.C. 1673d(b)). It completed and filed its determination in this investigation on April 19, 2021. The views of the Commission are contained in USITC Publication 5183 (April 2021), entitled Seamless Carbon and Alloy Steel Standard, Line, and Pressure Pipe from Czechia: Investigation No. 731-TA-1529 (Final).

By order of the Commission.
Issued: April 19, 2021.
Lisa Barton,
Secretary to the Commission.

[FR Doc. 2021-08442 Filed 4-22-21; 8:45 am]

BILLING CODE 7020-02-P